DEPARTMENT OF ENERGY

Federal Energy Regulatory Commission

[Project No. 96-048]

Pacific Gas and Electric Company; Notice of Revised Procedural Schedule for Environmental Assessment for the Proposed Project Relicense

On November 24, 2020, Pacific Gas and Electric Company (PG&E) filed an application for a new license to continue to operate and maintain the 162.72-megawatt Kerckhoff Hydroelectric Project No. 96 (Kerckhoff Project). On September 20, 2024, Commission staff issued a notice of intent to prepare an environmental assessment (EA) to evaluate the effects of relicensing the Kerckhoff Project. The notice included an anticipated schedule for issuing the EA in September 2025.

Staff is still evaluating the effects of relicensing the Kerckhoff Project. In order for staff to fully consider all the information filed by PG&E, the procedural schedule for completing the EA is being revised as follows. Further revisions to the schedule may be made as appropriate.

Milestone | Target date
Issue EA | December 31, 2025.

Any questions regarding this notice may be directed to Evan Williams at (202) 502-8462, or by email at evan.williams@ferc.gov.

Dated: September 15, 2025.
Debbie-Anne A. Reese,
Secretary.

[FR Doc. 2025-18092 Filed 9-17-25; 8:45 am]

BILLING CODE 6717-01-P